DEPARTMENT OF HOMELAND SECURITY

Federal Emergency Management Agency

[Docket ID FEMA-2011-0010]

Draft Programmatic Environmental Assessment for Hazard Mitigation Safe Room Construction

AGENCY: Federal Emergency Management Agency, DHS.

ACTION: Notice of availability and request for comments.

SUMMARY: Under the Pre-Disaster Mitigation (PDM) Program and the Hazard Mitigation Grant Program (HMGP), the Federal Emergency Management Agency (FEMA) may provide funding to eligible applicants for eligible, feasible, and cost-effective activities that have the purpose of reducing or eliminating risks to life and property from hazards and their effects. One such activity is the construction and installation of safe rooms to protect populations from extreme wind events (e.g., hurricane, tornado). FEMA has prepared a draft Programmatic Environmental Assessment (PEA) to address the potential impacts to the human environment resulting from the installation and construction of safe rooms. The purpose of the PEA is to facilitate FEMA's compliance with the National Environmental Policy Act (NEPA) by providing a framework to address the potential environmental impacts of this project type.

DATES: Comments on the draft Programmatic Environmental Assessment may be submitted on or before May 27, 2011.

ADDRESSES: You may submit comments, identified by Docket ID FEMA-2011-0010, by one of the following methods:

Federal eRulemaking Portal: http://www.regulations.gov. Search for docket ID FEMA-2011-0010 and follow the instructions for submitting comments.

E-mail: FEMA-POLICY@dhs.gov. Include Docket ID FEMA-2011-0010 in the subject line of the message.

Fax: 703-483-2999.

Mail/Hand Delivery/Courier: Legislation, Regulations, & Policy Division, Office of Chief Counsel, Federal Emergency Management Agency, 500 C Street, SW., Room 835, Washington, DC 20472-3100.

Instructions: All submissions received must include the agency name and docket ID. Regardless of the method used for submitting comments or material, all submissions will be posted, without change, to the Federal eRulemaking Portal at http://www.regulations.gov, and will include any personal information you provide. Therefore, submitting this information makes it public. You may wish to read the Privacy Act notice that is available via the Privacy Notice link in the footer of http://www.regulations.gov.

Docket: For access to the docket to read the draft Programmatic Environmental Assessment or comments submitted by the public on this document, go to the Federal eRulemaking Portal at http://www.regulations.gov and search for docket ID FEMA-2011-0010. These documents may also be inspected at FEMA, Office of Chief Counsel, Room 835, 500 C Street, SW., Washington, DC 20472-3100. In addition, the draft and final Programmatic Environmental Assessment and related documents will be accessible on FEMA's environmental documents page at http://www.fema.gov/plan/envdocuments.shtm.

FOR FURTHER INFORMATION CONTACT: Jomar Maldonado, Environmental Officer, Office of Environmental Planning and Historic Preservation, FEMA, at jomar.maldonado@dhs.gov or phone (202) 646-2741.

SUPPLEMENTARY INFORMATION:

Draft Programmatic Environmental Assessment for Hazard Mitigation Safe Room Construction

The purpose of the draft Programmatic Environmental Assessment (PEA) is to facilitate FEMA's compliance with the National Environmental Policy Act (NEPA) by providing a framework to address the potential environmental impacts of safe room construction projects. The following five alternatives are considered in the PEA: No Action; Retrofit or Renovation of an Existing or Proposed Facility; Safe Room Connected to an Existing Building and Beyond Original Footprint; New Stand-Alone Construction in Previously Disturbed Areas; and New Stand-Alone Construction in Previously Undisturbed Areas.

The PEA also provides the public and decision-makers with the information required to understand and evaluate the potential environmental consequences of actions funded by FEMA. In addition to meeting the goals of impact identification and disclosure, the PEA addresses the need to streamline the NEPA review process in order to provide timely delivery of hazard mitigation assistance to communities in areas at risk of wind events.

The analysis presented in the PEA relies on FEMA's experience regarding environmental impacts that can be expected with activities involving construction, ground disturbance, removal of vegetation, and modification/retrofitting of existing structures. It is also based on a review of scientific literature, consultation with regulatory and resource agencies, and expert opinion. FEMA will consider the analysis in the PEA to determine whether a Finding of No Significant Impact (FONSI) or a Notice of Intent to Prepare an Environmental Impact Statement is appropriate for the action alternatives described and assessed in the PEA.

FEMA will use the PEA to evaluate the environmental impacts of grant-funded safe rooms. The PEA will also assist in determining when more site-specific information is needed and what level of environmental analysis and documentation is required for more complex projects to comply with NEPA.

Authority: National Environmental Policy Act (NEPA), as amended, 42 U.S.C. 4331 et seq.; 40 CFR 1500.1 et seq.; 44 CFR 10.1 et seq.

Dated: April 19, 2011.
W. Craig Fugate,
Administrator, Federal Emergency Management Agency.

[FR Doc. 2011-10096 Filed 4-26-11; 8:45 am]

BILLING CODE 9111-A6-P